DEPARTMENT OF TRANSPORTATION

National Highway Traffic Safety Administration

[Docket No. NHTSA-2022-0032]

Agency Information Collection Activities; Notice and Request for Comment; Strategies To Improve DRE Officers' Performance and Law Enforcement Agencies' DRE Programs

AGENCY: National Highway Traffic Safety Administration (NHTSA), Department of Transportation (DOT).

ACTION: Notice and request for comments on a new information collection.

SUMMARY: The National Highway Traffic Safety Administration (NHTSA) invites public comments about our intention to request approval from the Office of Management and Budget (OMB) for a new information collection to study ways to help improve Officers' performance and Law Enforcement programs for Drug Recognition Experts (DRE). Before a Federal agency can collect certain information from the public, it must receive approval from OMB. Under procedures established by the Paperwork Reduction Act of 1995, before seeking OMB approval, Federal agencies must solicit public comment on proposed collections of information, including extensions and reinstatement of previously approved collections. This document describes a collection of information for which NHTSA intends to seek OMB approval on Strategies to Improve DRE Officers' Performance and Law Enforcement Agencies' DRE Programs.

DATES: Comments must be submitted on or before October 31, 2022.

ADDRESSES: You may submit comments identified by the Docket No. NHTSA-2022-0032 through any of the following methods:

• Electronic submissions: Go to the Federal eRulemaking Portal at http://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays. To be sure someone is there to help you, please call (202) 366-9322 before coming.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact: Jacqueline Milani, NPD220 (routing symbol), (202) 913-3925, National Highway Traffic Safety Administration, Enforcement and Justice Services Division, Room number: W44-206, U.S. Department of Transportation, 1200 New Jersey Avenue SE, Washington, DC 20590.

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g., permitting electronic submission of responses. In compliance with these requirements, NHTSA asks for public comments on the following proposed collection of information for which the agency is seeking approval from OMB.

Title: Strategies to Improve DRE Officers' Performance and Law Enforcement Agencies' DRE Programs.

OMB Control Number: New.

Form Number(s): 1662, 1663, 1680.

Type of Request: New Request.

Type of Review Requested: Regular.

Requested Expiration Date of Approval: 3 years from date of approval.

Summary of the Collection of Information

NHTSA seeks approval from the Office of Management and Budget (OMB) for a new information collection. Drug Recognition Experts (DRE) are law enforcement officers trained and certified through the International Drug Evaluation and Classification (DEC) program to recognize impairment in drivers under the influence of drugs other than, or in addition to, alcohol. Although there is a standardized process for the Drug Influence Evaluation (DIE) performed by DREs, there are differences in how each State DRE program, as well as local DREs, collect evidence, record data, and determine who will respond when a DRE is needed. These differences are due to a variety of reasons, including funding, the number of trained DREs, individual laws, and other factors. Some States have strengthened their programs with the utilization of tools and technologies, such as tablets and software that aid in the accurate and efficient collection of data. There has, however, been no research to document best practice strategies that other agencies could use with fidelity to replicate what some have done to improve their DRE officers' performance and law enforcement agencies' DRE programs. This project is a one-time demonstration project to study the strategies needed to improve the ability of DRE officers and effectiveness of DRE programs to address drug-impaired driving by consistently gathering and reporting evidence of drivers suspected of impaired driving. Participation in the program is voluntary; the process and information collected is described below.

• Application information (Form 1663) will be collected to enroll Law Enforcement Agencies with DRE programs. The application will include fields for the agency name, address, point of contact name, email address, and phone number. It will request information about existing DRE processes and procedures, tools and strategies used, and how the agency plans to implement new or enhance existing processes and procedures. A supporting Equipment, Technology and Supplies Order Form (Form 1680) will also need to be completed and submitted by participating agencies.

• Selected agencies will be required to submit via email, monthly reports (Form 1662) documenting activities conducted in the reporting month and planned for the next month. The monthly reports will also include information on equipment/technology received as of the date of the report.

• Quarterly reports will be required and will be collected through telephone conversations between the selected agencies and the support contractor. These calls will serve to discuss what has occurred within the past quarter in relation to the project, such as how the tools and technologies have been implemented, any challenges faced and how they were or will be addressed, any successes to date, and lessons learned.

Description of the Need for the Information and Proposed Use of the Information

NHTSA was established by the Highway Safety Act of 1970 (Pub. L. 91-605, section 202(a), 84 Stat. 1713, 1739-40). Its mission is to reduce the number of deaths, injuries, and economic losses resulting from motor vehicle crashes on our nation's highways. To further this mission, NHTSA conducts research on driver behavior and traffic safety to develop efficient and effective means of bringing about safety improvements. Impaired driving resulting from cannabis or other drug use poses challenges for our nation's law enforcement officers, prosecutors, toxicologists, highway safety offices, and others. As the number of States legalizing marijuana continues to increase, the need for effective strategies to address the growing concerns about impaired driving is imperative. Law enforcement agencies are eager for strategies to improve their efficiency, consistency, and completeness of their DRE programs. This program will play a critical role in a State's efforts to reduce impaired driving. This project will allow NHTSA to provide participating law enforcement agencies with information and resources to improve their DRE officers' performance and enforcement programs overall. This collection of information is necessary to allow interested enforcement agencies with DRE programs to submit an application that shares information about their current DRE program. This is a demonstration project. Agency applications will be collected and used as baseline data. This information will be compiled and used to better understand process outcomes that other law enforcement agencies could use to replicate and improve their programs.

Affected Public: Selected law enforcement agencies with DRE programs willing to participate.

Estimated Number of Respondents: 15.

Frequency: 1 application to share information about their Law Enforcement Agency, monthly reports and quarterly calls to share information on process measures on how the project is going.

Number of Responses: Approximately 15 agencies will apply. Each agency will submit 1 application, 36 monthly reports, and 12 quarterly calls.

Estimated Total Annual Burden Hours: 440 hours.

Data collection will require the following activities for participating agencies: completing an application, reviewing and signing a memorandum of understanding, participating in a kickoff call, preparing and submitting monthly reports and participating in quarterly phone calls. Agencies that are not selected for participation will spend time only on completing the application.

The total estimated burden hours for each participating agency is 88 hours. Assuming 15 agencies respond and are selected, the total estimated burden hours for all agencies is 1,320 hours. The estimated total burden hours for any agency that submits an application but is not selected is 1 hour. This is a 36-month effort, assuming agencies are selected by March 2023 and provide monthly reports through March 2026. The average annual burden for all agencies is 440 hours or 29.33 hour per respondent. Table 1 provides more details about the total estimated burden hours.

Table 1—Estimated Total and Annual Burden Hours for Participating Agencies
Activity | Number of respondents | Number of times completed | Est. burden hours per activity | Total est. burden hours
Complete Application | 15 | 1 | 1 | 15
Prepare Equipment Request | 15 | 1 | 1 | 15
Review and Sign MOU | 15 | 1 | 1 | 15
Participate in Kickoff Call | 15 | 1 | 1 | 15
Complete and Submit Monthly Reports and Invoices | 15 | 36 | 2 | 1,080
Participate in Quarterly Phone Calls | 15 | 12 | 1 | 180
Total Burden Hours |  |  |  | 1,320 hours.
Total Annual Burden Hours |  |  |  | 440 hours/year.
Total Burden Hours Per Respondent |  |  |  | 88 hours.
Average Annual Burden Hours Per Respondent |  |  |  | 29.33 hours/year.

Estimated Annualized Labor Costs for Selected Agencies

The burden hour labor cost associated with this collection of information for selected agencies is derived by multiplying the appropriate mean wage published by the Bureau of Labor Statistics (weighted for total compensation) by the estimated burden hours for selected agencies. The mean wage is estimated to be $37.67 per hour for “Police and Sheriff's Patrol Officers”.¹ This is estimated to be 62% of total compensation costs.² Therefore, NHTSA estimates the hourly labor costs to be $61.03. The estimated total labor cost for selected agencies to participate in the project is $1,790.21 per selected agency and $26,853.20 for all selected agencies.

¹ National estimates for Police and Sheriff's Patrol Officers, available at https://www.bls.gov/oes/current/oes333051.htm (accessed May 5, 2022).

² Employer costs for employee compensation by ownership, state and local government workers, available at https://www.bls.gov/news.release/ecec.t01.htm (accessed May 5, 2022).

The estimated annual labor cost associated with the burden hours per selected agency and all agencies is shown in Table 2.

Table 2—Estimated Annual Labor Cost for Selected Agencies
Annual respondents | Average hourly labor cost | Annual average burden hours per respondent | Annual labor cost per agency | Total annual average burden hours | Total annual labor cost
15 | $61.03 | 29.33 | $1,790.21 | 440 | $26,853.20

Estimated Total Annual Burden Cost: There is no cost to participating Law Enforcement Agencies beyond the time associated with submitting reports and participating in quarterly calls.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. chapter 35, as amended; 49 CFR 1.49; and DOT Order 1351.29.

Issued in Washington, DC.
Nanda Narayanan Srinivasan,
Associate Administrator, Research and Program Development.

[FR Doc. 2022-18787 Filed 8-30-22; 8:45 am]

BILLING CODE 4910-59-P